DEPARTMENT OF COMMERCE

Bureau of Industry and Security

In the Matter of: Kue Sang Chun, 1476 U-Dong, 11th Floor, Haeundae-Gu, Busan, Seoul, 612-020, Republic of South Korea; Order

On November 28, 2012, the then-Director of the Office of Exporter Services, Bernard Kritzer entered an Order ¹ denying Kue Sang Chun (“Chun”) all U.S. export privileges until November 10, 2016, pursuant to Section 11(h) of the Export Administration Act ² and Section 766.25 of the Export Administration Regulations,³ and based on a criminal conviction of violating Section 38 of the Arms Export Control Act (22 U.S.C. 2778 (2000)) (“AECA”).

¹ 77 FR 72322 (Dec. 5, 2013).

² 50 U.S.C. app. 2401-2420 (2000). Since August 21, 2001, the Act has been in lapse and the President, through Executive Order 13222 of August 17, 2001 (3 CFR, 2001 Comp. 783 (2002)), as extended most recently by the Notice of August 8, 2013 (78 FR 49107 (Aug. 12, 2013)), has continued the Regulations in effect under the International Emergency Economic Powers Act (50 U.S.C. 1701, et seq. (2006 & Supp. IV 2010)).

³ The Regulations are currently codified in the Code of Federal Regulations at 15 CFR parts 730 through 774 (2014).

Whereas, the November 28, 2012 Order identified Chun's addresses as “currently incarcerated at: Register Number 56727-060, FCI Loretto, Federal Correctional Institution, P.O. Box 1000, Loretto, PA 15940,” and “578 Treeside Lane, Avon Lake, OH 44012;”

Whereas, the Office of Export Enforcement, Bureau of Industry and Security, U.S. Department of Commerce (“Department”), has confirmed that these two addresses are no longer correct, and that Chun's current address is “1476 U-Dong, 11 Floor, Haeundae-Gu, Busan, Seoul, 612-020, Republic of South Korea;” and

Whereas, as a result of the information the Department obtained regarding Chun's current address, the Department has requested that an order be issued amending the November 28, 2012 Order to reflect that new address for Chun;

Accordingly, it is hereby ordered that the November 28, 2012 Order denying all U.S. export privileges to Kue Sang Chun is amended by deleting the addresses “currently incarcerated at: Register Number 56727-060, FCI Loretto, Federal Correctional Institution, P.O. Box 1000, Loretto, PA 15940,” and “578 Treeside Lane, Avon Lake, OH 44012”, and by adding the address “1476 U-Dong, 11 Floor, Haeundae-Gu, Busan, Seoul, 612-020, Republic of South Korea”. In all other aspects, the November 28, 2012 Order remains in full force and effect.

This Order, which is effective immediately, shall be published in the Federal Register.

Dated: June 24, 2014.
Eileen M. Albanese,
Acting Director, Office of Exporter Services.

[FR Doc. 2014-15389 Filed 6-30-14; 8:45 am]

BILLING CODE P